DEPARTMENT OF THE INTERIOR

Bureau of Indian Affairs

Notice of Intent To Prepare an Environmental Impact Statement for the Proposed Crystal Power Generating Station and Associated Facilities, Moapa Indian Reservation, Clark County, Nevada

AGENCY: Bureau of Indian Affairs, Interior.

ACTION: Notice.

SUMMARY: This notice advises the public that the Bureau of Indian Affairs, with the cooperation of the Moapa Band of Paiutes and Calpine Corporation (Calpine), intends to gather information necessary for preparing an Environmental Impact Statement (EIS) for the approval of a long-term land lease for the proposed Crystal Power Generating Station, and associated infrastructure, that Calpine would construct and operate on approximately 50 acres of Indian trust land within the Moapa Indian Reservation, Clark County, Nevada. The purpose of the proposed action is to provide economic development and job opportunities for the tribe and to allow Calpine to meet the electrical power needs of Southern Nevada and, possibly, California and Arizona. The proposed plant would have a nominal 760-megawatt base load rating. Details on the project location, proposed action and initial areas of environmental concern to be addressed in the EIS are provided below (See Supplementary Information). This notice also announces public scoping meetings regarding the content of the EIS.

DATES: Comments on the scope and implementation of this proposal must arrive by August 18, 2000. The public scoping meetings will be held on August 10, 2000, from 6:00 p.m. to 9:00 p.m., and August 11, 2000, from 6:00 p.m. to 9:00 p.m.

ADDRESSES: If you wish to comment, you may submit comments by any one of several methods. You may mail or hand carry written comments to either (1) Amy L. Heuslein, Regional Environmental Protection Officer, Western Regional Office, Bureau of Indian Affairs, Environmental Quality Services, P.O. Box 10, Phoenix, Arizona 85001, Telephone (602) 379-6750 or Telefax (602) 379-3833, or (2) Deborah Hamlin, Realty Specialist, Southern Paiute Field Station, P.O. Box 720, St. George, Utah 84771, Telephone (435) 674-9720 or Telefax (435) 674-9714. You may also comment via the Internet to AmyHueslein@bia.gov or DeborahHamlin@bia.gov. Please submit Internet comments as an ASCII file, avoiding the use of special characters and any form of encryption. If you do not receive confirmation from the system that your message was received, contact us directly at (602) 379-6750 or (435) 674-9720, respectively.

Comments, including the names and home addresses of respondents will be available for public review at the above addresses during regular business hours, 8 a.m. to 4:30 p.m. Monday through Friday, except holidays. Individual respondents may request confidentiality. If you wish us to withhold your name and/or your address from public review or from disclosure under the Freedom of Information Act, you must state this prominently at the beginning of your written comment. Such requests will be honored to the extent allowed by law. We will not, however, consider anonymous comments. All submissions from organizations or businesses, and from individuals representing themselves as representatives or officials of organizations or businesses, will be made available for public inspection in their entirety.

The August 10, 2000, public scoping meeting will be held at the Tribal Hall, Number 1 Lincoln Street, Moapa Indian Reservation, Moapa, Nevada. The August 11, 2000, public scoping meeting will be held in the First Floor Conference Room of the North Las Vegas Airport, 2730 Airport Drive, North Las Vegas, NV 89032.

FOR FURTHER INFORMATION CONTACT: Amy L. Heuslein, (602) 379-6750 or Deborah Hamlin, (435) 674-9720.

SUPPLEMENTARY INFORMATION: The EIS would evaluate the effects of a proposed land lease of approximately 50 acres (at 40°46′N Latitude, 6°97′W Longitude) on the Moapa Indian Reservation, where Calpine proposes to construct and operate a 760-megawatt combined cycle power plant. The proposed plant would be fueled by natural gas from the existing Kern River (Williams) Natural Gas Pipeline, which is located on the Reservation approximately 2,500 feet from the plant site. The plant would employ three gas turbines and one heat recovery steam generator. The stack height would be approximately 150 to 175 feet, with a diameter of about 18 feet. Groundwater would be used in operations and for cooling. Water is expected to be discharged to an on-site 10 to 15 acre evaporation pond.

The project is also proposed to include: (1) A gas supply lateral pipeline on reservation land; (2) a power grid interconnection at the Harry Allen substation, approximately 12 miles southwest of the plant site; (3) two parallel 230kV lines traversing both reservation land and Bureau of Land Management land, mostly within an existing utility corridor; and (4) a roadway connecting the site to Interstate Highway 15. The exact location of the roadway is still being evaluated due to design considerations.

Significant issues to be covered during the scoping process may include, but not be limited to, air quality, geology and soils, surface and groundwater resources, biological resources, cultural resources, socio-economic conditions, land use, aesthetics, environmental justice, and Indian trust assets.

This notice is published in accordance with section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: July 14, 2000.
Kevin Gover,
Assistant Secretary—Indian Affairs.

[FR Doc. 00-18274 Filed 7-18-00; 8:45 am]

BILLING CODE 4310-02-P